ENVIRONMENTAL PROTECTION AGENCY

[(EPA-HQ-OA-2013-0124) FRL 9901-68-OA]

Good Neighbor Environmental Board; Cancellation Notice of Public Advisory Committee teleconference

AGENCY: Environmental Protection Agency (EPA).

ACTION: Cancellation of the Good Neighbor Environmental Board Teleconference.

SUMMARY: EPA announced in the Federal Register on May 17, 2013 [FRL-9814-6] a Good Neighbor Environmental Board (GNEB) public teleconference. Pursuant to the Federal Advisory Committee Act, Public Law 92-463, EPA is giving notice of cancellation of that public meeting for the Good Neighbor Environmental Board. GNEB is a federal advisory committee chartered under the Federal Advisory Committee Act, PL 92463. GNEB provides advice and recommendations to the President and Congress on environmental and infrastructure issues along the U.S. border with Mexico.

DATES: The teleconference scheduled for Tuesday, October 1, 2013 has been cancelled because the meeting is not needed at this time. The meeting will be rescheduled at a later date.

FOR FURTHER INFORMATION CONTACT: Contact Mark Joyce, Acting Designated Federal Officer, joyce.mark@epa.gov, (202) 564-2130. General information about GNEB can be found on its Web site at www.epa.gov/ofacmo/gneb.

Dated: September 26, 2013.
Mark Joyce,
Acting Designated Federal Officer.

[FR Doc. 2013-24073 Filed 9-30-13; 8:45 am]

BILLING CODE 6560-50-P